DEPARTMENT OF HEALTH AND HUMAN SERVICES

Office of the Secretary

Agency Information Collection Activities; Proposed Collections; Comment Request

The Department of Health and Human Services, Office of the Secretary will periodically publish summaries of proposed information collections projects and solicit public comments in compliance with the requirements of section 3506(c)(2)(A) of the Paperwork Reduction Act of 1995. To request more information on the project or to obtain a copy of the information collection plans and instruments, call the OS Reports Clearance Office at (202) 619-2118 or e-mail Geerie.Jones@HHS.gov.

Comments are invited on: (a) Whether the proposed collection of information is necessary for the proper performance of the functions of the agency, including whether the information shall have practical utility; (b) the accuracy of the agency's estimate of the burden of the proposed collection of information; (c) ways to enhance the quality, utility and clarity of the information to be collected; and (d) ways to minimize the burden of the collection of information on respondents, including through the use of automated collection techniques or other forms of information technology.

Proposed Project: 1. Decisions, Choices and Care Management Among an Admissions Cohort of Privately Insured Disabled Elders (Long Term Care)—New—The Department's Office of the Assistant Secretary for Planning and Evaluation proposes to conduct a study to better understand the circumstances or factors that motivate elders who have purchased private long-term care insurance policies to use services and file claims for benefits. The purpose is to obtain a comprehensive demographic, health and attitudinal profile of individuals with private LTC insurance policies.

Respondents: Individual.

Number of Respondents Baseline Surveys: 1,650.

Estimated burden per Response: 1.36 hours.

Burden for Baseline Surveys: 2,251 hours.

Number of Responses for Follow-up Interview: 5,105.

Estimated Burden per Response: 288 minutes.

Burden for Follow-up Interviews: 1,469.

Total Number of Responses: 6,755.

Total Burden: 3,720 hours.

Send comments via e-mail to Geerie.Jones@HHS.gov or mail to OS Reports Clearance Office, Room 503H, Huber H. Humphrey Building, 200 Independence Avenue, SW., Washington, DC 20201. Comments should be received within 60 days of this notice.

Dated: August 9, 2002.
Kerry Weems,
Deputy Assistant Secretary, Budget.

[FR Doc. 02-20937 Filed 8-16-02; 8:45 am]

BILLING CODE 4154-05-M